DEPARTMENT OF ENERGY

Federal Energy Regulatory Commission

[Docket No. CP05-417-000]

Northwest Pipeline Corporation; Notice of Application for Abandonment

September 23, 2005.

Take notice that on September 19, 2005, Northwest Pipeline Corporation (Northwest), filed an abbreviated application, pursuant to section 7(b) of the Natural Gas Act and Part 157 of the Commission's regulations, for permission and approval to abandon transportation service for Questar Pipeline Company under Rate Schedule X-79 in Original Volume No. 2 of its FERC Gas Tariff, all as more fully set forth in the application which is on file with the Commission and open to public inspection.

Northwest states that the service agreement set forth in Rate Schedule X-79 was terminated effective February 28, 1999 due to inactivity.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. eastern time on September 30, 2005.

Magalie R. Salas,
Secretary.

[FR Doc. E5-5362 Filed 9-30-05; 8:45 am]

BILLING CODE 6717-01-P